INTER-AMERICAN FOUNDATION BOARD MEETING

Sunshine Act Meetings

Time and Date: December 15, 2008, 9 a.m.-2 p.m.

Place: 901 N. Stuart Street, Tenth Floor, Arlington, Virginia 22203.

Status: Open to the public.

Matters to be Considered:

• Approval of the Minutes of the July 28, 2008, Meeting of the Board of Directors

• President's Report

• Program Presentation: Regional Challenges

• Congressional Affairs

• Board Trip for 2009

• Advisory Council

Portions to be Open to the Public:

• Approval of the Minutes of the July 28, 2008, Meeting of the Board of Directors

• President's Report

• Program Presentation: Regional Challenges

• Congressional Affairs

• Board Trip for 2009

• Advisory Council

CONTACT PERSON FOR MORE INFORMATION: Jennifer Hodges Reynolds, General Counsel, (703) 306-4301.

Dated: December 2, 2008.
Jennifer Hodges Reynolds,
General Counsel.

[FR Doc. E8-29199 Filed 12-5-08; 4:15 pm]

BILLING CODE 7025-01-P